DEPARTMENT OF THE INTERIOR

Bureau of Land Management

[LLCON04000 L16100000.DP000]

Notice of Availability of the Draft Environmental Impact Statement for Previously Issued Oil and Gas Leases in the White River National Forest, CO

AGENCY: Bureau of Land Management, Interior.

ACTION: Notice.

SUMMARY: In compliance with the National Environmental Policy Act of 1969, as amended (NEPA), the Bureau of Land Management (BLM) Colorado River Valley Field Office (CRVFO), Silt, Colorado, prepared a Draft Environmental Impact Statement (EIS) reconsidering previous decisions to issue 65 leases on lands within the White River National Forest (WRNF).

DATES: To ensure comments will be considered, the BLM must receive written comments on the Previously Issued Oil and Gas Leases in the WRNF Draft EIS within 49 days following the date the Environmental Protection Agency (EPA) publishes its Notice of Availability in the Federal Register. The BLM will host four public meetings on the Draft EIS from 4 to 7 p.m., at the following locations:

• December 14, Glenwood Springs Community Center, 100 Wulfson Rd., Glenwood Springs, CO 81601.

• December 15, DeBeque Elementary School, 730 Minter Ave., De Beque, CO 81630.

• December 16, Roaring Fork High School, 2270 Hwy. 133, Carbondale, CO 81623.

ADDRESSES: You may submit comments related to the Previously Issued Oil and Gas Leases in the WRNF Draft EIS by any of the following methods:

• Web site: http://www.blm.gov/co/st/en/fo/crvfo.html.

• Email: WRNFleases@blm.gov.

• Fax: 970-876-9090.

• Mail: BLM Colorado River Valley Field Office, Attn: WRNF Leases, 2300 River Frontage Road, Silt, CO 81652.

Documents pertinent to this proposal may be examined at the CRVFO at the above address.

FOR FURTHER INFORMATION CONTACT: Greg Larson, Project Manager, at the address above, by telephone at 970-876-9000, or by email at glarson@blm.gov. You may contact Mr. Larson to request to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM developed this Draft EIS to address a NEPA defect identified by the IBLA related to the issuance of the oil and gas leases on WRNF lands from 1995 to 2004. In 2007, the Interior Board of Land Appeals (IBLA) ruled that before including WRNF parcels in an oil and gas lease sale, the BLM must either formally adopt NEPA analysis completed by the U.S. Forest Service (USFS) or conduct a NEPA analysis of its own (Board of Commissioners of Pitkin County, 173 IBLA 173 (2007)). The BLM has identified 65 existing leases with effective dates ranging from 1995 to 2012 that were leased by the BLM without adopting USFS NEPA or without the BLM preparing its own NEPA analysis. The most recent USFS decision to make these lands available for oil and gas leasing was analyzed in the 1993 WRNF Oil and Gas Leasing EIS, a decision that was reaffirmed in the 2002 WRNF Plan. Before offering and subsequently issuing the leases at issue in an oil and gas lease sale, the BLM obtained concurrence from the USFS; however, as noted above, it did not adopt the USFS's NEPA analysis or prepare its own. As a result, the BLM has determined additional actions need to be taken to correct this defect. Because the BLM has determined that the WRNF NEPA analysis conducted is no longer adequate, the BLM is conducting its own NEPA analysis through this EIS regarding previous decisions to lease WRNF lands for oil and gas development.

The BLM will determine whether these 65 leases should be cancelled, reaffirmed, or modified with additional or different terms. Under a separate effort, the WRNF updated its 1993 Oil and Gas Leasing EIS to address future oil and gas leasing availability. The USFS released the Final EIS and Draft Record of Decision in December 2014. The BLM incorporated as much of the new USFS NEPA analysis of future oil and gas leasing on WRNF lands as possible into its analysis of existing leases.

Five alternatives are considered in the BLM's Draft EIS. The No Action alternative reaffirms the lease stipulations in the 65 leases as they were issued; the BLM would take no action by continuing to administer the leases with their current stipulations. Alternative 2 would address inconsistencies by adding stipulations identified in the 1993 WRNF EIS that were not attached to eight leases. Alternative 3 would modify the 65 leases to match the stipulations identified for future leasing in the 2014 USFS Final EIS Proposed Action. Alternative 4 is the BLM's Proposed Action. It would modify or cancel the 65 leases to match the stipulations and availability decision for future leasing identified in the 2014 USFS Draft Record of Decision. In areas the USFS identified as open to future leasing, lease stipulations would be modified; all or part of 25 existing leases in areas identified as closed to future leasing would be cancelled. Alternative 5 would cancel all 65 leases.

The BLM developed this range of alternatives to respond to public comments received during public scoping and input from cooperating agencies. The BLM held a public scoping period from April 1 to May 16, 2014, and received more than 32,000 public comments. The BLM held four public meetings during the scoping period. Since the end of the public scoping period, the BLM worked with cooperating agencies (including the EPA; USFS; the Colorado Department of Natural Resources including Colorado Parks and Wildlife; Garfield, Mesa, Pitkin, and Rio Blanco counties; the Town of Carbondale; the City of Glenwood Springs; the Town of New Castle; the Town of Parachute; the City of Rifle; and the town of Silt) to prepare the Draft EIS.

Please note that public comments and information submitted including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Ruth Welch,
BLM Colorado State Director.

[FR Doc. 2015-29717 Filed 11-19-15; 8:45 am]

BILLING CODE 4310-JB-P